DEPARTMENT OF TRANSPORTATION

Federal Aviation Administration

Notice of Intent To Rule on Application To Impose and Use the Revenue From a Passenger Facility Charge (PFC) at Louis Armstrong New Orleans International, New Orleans, LA

AGENCY: Federal Aviation Administration (FAA), DOT.

ACTION: Notice of Intent to Rule on Application.

SUMMARY: The FAA proposes to rule and invites public comment on the application to impose and use the revenue from a PFC at Louis Armstrong New Orleans International Airport under the provisions of the Aviation Safety and Capacity Expansion Act of 1990 (Title IX of the Omnibus Budget Reconciliation Act of 1990) (Pub. L. 101-508) and Part 158 of the Federal Aviation Regulations (14 CFR part 158).

DATES: Comments must be received on or before June 3, 2004.

ADDRESSES: Comments on this application may be mailed or delivered in triplicate copies to the FAA at the following address: Mr. G. Thomas Wade, Federal Aviation Administration, Southwest Region, Airports Division, Planning and Programming Branch, ASW-611, Fort Worth, Texas 76193-0610.

In addition, one copy of any comments submitted to the FAA must be mailed or delivered to Mr. Roy Williams, Director of Aviation, Louis Armstrong New Orleans International Airport at the following address: P.O. Box 20007, New Orleans, LA 70141.

Air carriers and foreign air carriers may submit copies of the written comments previously provided to the Airport under Section 158.23 of part 158.

FOR FURTHER INFORMATION CONTACT: Mr. G. Thomas Wade, Federal Aviation Administration, Southwest Region, Airports Division, Planning and Programming Branch, ASW-611, Fort Worth, Texas 76193-0610, (817) 222-5613.

The application may be reviewed in person at this same location.

SUPPLEMENTARY INFORMATION: The FAA proposes to rule and invites public comment on the application to impose and use the revenue from a PFC at Louis Armstrong New Orleans International Airport under the provisions of the Aviation Safety and Capacity Expansion Act of 1990 (Title IX of the Omnibus Budget Reconciliation Act of 1990) (Public Law 101-508) and Part 158 of the Federal Aviation Regulations (14 CFR part 158).

On April 26, 2004, the FAA determined that the application to impose and use the revenue from a PFC submitted by the Airport was substantially complete within the requirements of section 158.25 of part 158. The FAA will approve or disapprove the application, in whole or in part, no later than August 6, 2004.

The following is a brief overview of the application.

Level of the proposed PFC: $4.50.

Proposed charge effective date: May 1, 2011.

Proposed charge expiration date: April 1, 2014.

Total estimated PFC revenue: $60,699,931.

PFC application number: 04-07-C-00-MSY.

Brief description of proposed project(s):

Projects To Impose and Use PFC's

1. Airport Interior Signage

2. Concourses A & B Terminal Reflooring

3. Concourse C Checkpoint Expansion

4. Construct Connector Taxiway U

5. Construct Holding Bay—Runway 19

6. Exterior Terminal Renovations—Lower Roadway

7. FIS Facility

8. Gate Utilization Study

9. Terminal HVAC Rehabilitation, Phase II

10. Terminal Pedestrian Access Enhancements

11. TSA-Related Terminal Modifications and Airline Relocations

12. Airport Master Plan

13. Noise Mitigation Flight Tracking System

14. Part 1542 Security System

15. Replace/Repair High Mast Lighting

16. Residential Sound Insulation Program/Land Acquisition

17. Terminal Apron Expansion

18. Terminal HVAC Rehabilitation—Phase III

19. Terminal Interior and Exterior Improvements

20. Transportation Center Expansion

Proposed class or classes of air carriers to be exempted from collecting PFC's: FAR Part 135 On-Demand Air Taxi/Commercial Operators (ATCO).

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the application in person at Louis Armstrong New Orleans International Airport.

Issued in Fort Worth, Texas on April 26, 2004.
D. Cameron Bryan,
Acting Manager, Airports Division.

[FR Doc. 04-10121 Filed 5-3-04; 8:45 am]

BILLING CODE 4910-13-M